DEPARTMENT OF THE INTERIOR

Bureau of Land Management

[WY-100-08-1310-NB-016K]

Notice of Meetings of the Pinedale Anticline Working Group

AGENCY: Bureau of Land Management, Interior.

ACTION: Notice of public meetings.

SUMMARY: In accordance with the Federal Land Policy and Management Act (1976) and the Federal Advisory Committee Act (1972), the U.S. Department of the Interior, Bureau of Land Management (BLM) Pinedale Anticline Working Group (PAWG) will meet in Pinedale, Wyoming, for business meetings. Group meetings are open to the public.

DATES: The PAWG will meet on the following dates beginning at 1 p.m.: May 29, 2008; July 24, 2008; September 25, 2008; and October 23, 2008.

Further, the Annual Tour will be held on June 20th. The tour will start at the BLM Pinedale Field Office at 8:30 am.

ADDRESSES: The meeting of the PAWG will be held at the BLM Pinedale Field Office, 1625 West Pine Street, Pinedale, WY.

FOR FURTHER INFORMATION CONTACT: Caleb Hiner, BLM/PAWG Liaison, Bureau of Land Management, Pinedale Field Office, 1625 West Pine Street, PO Box 768, Pinedale, WY 82941; 307-367-5352.

SUPPLEMENTARY INFORMATION: The Pinedale Anticline Working Group (PAWG) was authorized and established with release of the Record of Decision (ROD) for the Pinedale Anticline Oil and Gas Exploration and Development Project on July 27, 2000. The PAWG advises the BLM on the development and implementation of monitoring plans and adaptive management decisions as development of the Pinedale Anticline Natural Gas Field proceeds for the life of the field.

The agendas for these meetings will include discussions concerning any modifications task groups may wish to make to their monitoring recommendations and overall adaptive management implementation as it applies to the PAWG. At a minimum, public comments will be heard prior to adjournment of each meeting.

Dated: March 4, 2008.
Chuck Otto,
Field Office Manager.

[FR Doc. E8-4717 Filed 3-7-08; 8:45 am]

BILLING CODE 4310-22-P